DEPARTMENT OF ENERGY

Commission to Review the Effectiveness of the National Energy Laboratories

AGENCY: Department of Energy.

ACTION: Request for comments.

SUMMARY: This notice announces an opportunity to comment on the proposed Interim Report of the Commission to Review the Effectiveness of the National Energy Laboratories (Commission). The Commission was created pursuant section 319 of the Consolidated Appropriations Act, 2014, Public Law 113-76, and in accordance with the provisions of the Federal Advisory Committee Act (FACA), as amended, 5 U.S.C., App. 2. The report will be posted to the Web site: http://energy.gov/labcommission on Friday, February 13, 2015.

DATES: Interested persons are invited to submit written comments on or before Friday, February 20, 2015. There will also be the opportunity to provide public comment in person at the Commission meeting on February 24, 2015 (9:00 a.m.-12:00 p.m.).

ADDRESSES: Comments should be:

• Emailed to: crenel@hq.doe.gov.

• Or mailed to: Karen Gibson, Designated Federal Officer, U.S. Department of Energy, 1000 Independence Avenue SW., Washington, DC 20585.

• For those interested in providing public comment in person, the February 24th public meeting will take place at the Hilton at Mark Center, Birch Conference Room, 500 Seminary Road, Alexandria VA.

FOR FURTHER INFORMATION CONTACT: Karen Gibson, Designated Federal Officer; email crenel@hq.doe.gov; telephone (202) 586-3787.

SUPPLEMENTARY INFORMATION: Background: The Commission was established to provide advice to the Secretary of Energy on the Department's national laboratories. The Commission will review the DOE national laboratories for alignment with the Department's strategic priorities, clear and balanced missions, unique capabilities to meet current energy and national security challenges, appropriate size to meet the Department's energy and national security missions, and support of other Federal agencies. The Commission will also look for opportunities to more effectively and efficiently use the capabilities of the national laboratories and review the use of laboratory directed research and development (LDRD) to meet the Department's science, energy, and national security goals.

Given the broad scope and aggressive timeline for the report, the Secretary of Energy and Congress agreed to split the study into two phases. The Interim Report contains the preliminary observations and recommendations found in Phase 1 of the study, which consisted of literature review, visits to five of the National Laboratories; interviews with staff from across the National Laboratories, DOE, other Federal agencies, companies, other non-governmental organizations, and additional interested parties; and presentations at public Commission meetings. In Phase 2, the Commission will refine the conclusions of the Interim Report and focus on operational issues affecting the efficiency and effectiveness of the work of the National Laboratories in carrying out their missions. The commissioners will visit the remaining 12 National Laboratories. The Final Report is anticipated in early Fall 2015.

Issued in Washington, DC, on February 10, 2015.
LaTanya R. Butler,
Deputy Committee Management Officer.

[FR Doc. 2015-03142 Filed 2-13-15; 8:45 am]

BILLING CODE 6450-01-P